LEGAL SERVICES CORPORATION

Notice of Intent to Award—Grant Awards for the Provision of Civil Legal Services to Eligible Low-Income Clients Beginning January 1, 2019

AGENCY: Legal Services Corporation.

ACTION: Announcement of intention to make FY 2019 Grant Awards.

SUMMARY: The Legal Services Corporation (LSC) hereby announces its intention to award grants to provide economical and effective delivery of high quality civil legal services to eligible low-income clients, beginning January 1, 2019.

DATES: All comments and recommendations must be received on or before the close of business on November 26, 2018.

ADDRESSES: Grant Awards, Legal Services Corporation, 3333 K Street NW, Third Floor, Washington, DC 20007.

FOR FURTHER INFORMATION CONTACT: Reginald Haley, Office of Program Performance, at (202) 295-1545, or haleyr@lsc.gov.

SUPPLEMENTARY INFORMATION: Pursuant to LSC's announcement of funding availability on March 9, 2018, 83 FR 10524, and Grant Renewal applications due beginning June 4, 2018, LSC intends to award funds to provide civil legal services in the indicated service areas. Applicants for each service area are listed below. The amounts below are estimates based on the 2018 grant awards to each service area. The funding estimates may change based on the final FY 2019 appropriation.

LSC will post all updates and/or changes to this notice at http://www.grants.lsc.gov/grants-grantee-resources. Interested parties are asked to visit http://www.grants.lsc.gov/grants-grantee-resources regularly for updates on the LSC grants process.

Name of applicant organization | State | Service area | Estimated annualized 2019 funding
Alaska Legal Services Corporation | AK | AK-1 | $861,045
Alaska Legal Services Corporation | AK | NAK-1 | 594,038
Legal Services Alabama | AL | AL-4 | 6,448,641
Legal Aid of Arkansas | AR | AR-6 | 1,460,547
Center for Arkansas Legal Services | AR | AR-7 | 2,322,821
American Samoa Legal Aid | AS | AS-1 | 262,020
DNA-Peoples Legal Services | AZ | AZ-2 | 462,988
Community Legal Services | AZ | AZ-3 | 5,399,177
Southern Arizona Legal Aid | AZ | AZ-5 | 2,282,764
Community Legal Services | AZ | MAZ | 248,346
DNA-Peoples Legal Services | AZ | NAZ-5 | 2,866,264
Southern Arizona Legal Aid | AZ | NAZ-6 | 700,146
California Indian Legal Services | CA | CA-1 | 14,069
Inland Counties Legal Services | CA | CA-12 | 4,940,888
Legal Aid Society of San Diego | CA | CA-14 | 2,940,287
Legal Aid Society of Orange County | CA | CA-19 | 3,968,018
Greater Bakersfield Legal Assistance | CA | CA-2 | 1,251,117
Central California Legal Services | CA | CA-26 | 3,165,086
Legal Services of Northern California | CA | CA-27 | 4,080,151
Bay Area Legal Aid | CA | CA-28 | 4,218,203
Legal Aid Foundation of Los Angeles | CA | CA-29 | 6,032,045
Neighborhood Legal Services of Los Angeles County | CA | CA-30 | 4,151,911
California Rural Legal Assistance | CA | CA-31 | 4,694,373
California Rural Legal Assistance | CA | MCA | 3,049,971
California Indian Legal Services | CA | NCA-1 | 970,436
Colorado Legal Services | CO | CO-6 | 4,395,784
Colorado Legal Services | CO | MCO | 252,607
Colorado Legal Services | CO | NCO-1 | 105,488
Statewide Legal Services of Connecticut | CT | CT-1 | 2,684,133
Pine Tree Legal Assistance | CT | NCT-1 | 17,197
Neighborhood Legal Services Program of DC | DC | DC-1 | 905,444
Legal Services Corporation of Delaware | DE | DE-1 | 1,030,360
Legal Aid Bureau | DE | MDE | 15,654
Legal Services of North Florida | FL | FL-13 | 1,700,981
Three Rivers Legal Services | FL | FL-14 | 2,409,062
Community Legal Services of Mid-Florida | FL | FL-15 | 5,173,526
Bay Area Legal Services | FL | FL-16 | 3,791,294
Community Legal Services of Mid-Florida | FL | FL-17 | 4,024,276
Florida Rural Legal Services | FL | FL-17 | 4,024,276
Coast to Coast Legal Aid of South Florida | FL | FL-18 | 2,363,114
Legal Services of Greater Miami | FL | FL-5 | 3,687,821
Community Legal Services of Mid-Florida | FL | MFL | 651,649
Florida Rural Legal Services | FL | MFL | 651,649
Atlanta Legal Aid Society | GA | GA-1 | 3,699,000
Georgia Legal Services Program | GA | GA-2 | 8,478,946
Georgia Legal Services Program | GA | MGA | 323,806
Micronesian Legal Services | GU | GU-1 | 295,291
Legal Aid Society of Hawaii | HI | HI-1 | 1,248,404
Legal Aid Society of Hawaii | HI | NHI-1 | 251,612
Iowa Legal Aid | IA | IA-3 | 2,299,059
Iowa Legal Aid | IA | MIA | 391,532
Idaho Legal Aid Services | ID | ID-1 | 1,481,917
Idaho Legal Aid Services | ID | MID | 299,893
Idaho Legal Aid Services | ID | NID-1 | 71,362
Land of Lincoln Legal Assistance Foundation | IL | IL-3 | 2,836,906
Legal Assistance Foundation | IL | IL-6 | 5,954,947
Prairie State Legal Services | IL | IL-7 | 3,836,993
Legal Assistance Foundation | IL | MIL | 301,698
Indiana Legal Services | IN | IN-5 | 6,954,996
Indiana Legal Services | IN | MIN | 221,711
Kansas Legal Services | KS | KS-1 | 2,771,728
Legal Aid of the Bluegrass | KY | KY-10 | 1,591,474
Legal Aid Society | KY | KY-2 | 1,259,848
Appalachian Research and Defense Fund of Kentucky | KY | KY-5 | 1,762,508
Kentucky Legal Aid | KY | KY-9 | 1,295,698
Acadiana Legal Service Corporation | LA | LA-15 | 3,673,067
Southeast Louisiana Legal Services Corporation | LA | LA-13 | 3,552,592
Community Legal Aid | MA | MA-10 | 1,573,204
Volunteer Lawyers Project of the Boston Bar Assoc | MA | MA-11 | 2,178,414
South Coastal Counties Legal Services | MA | MA-12 | 914,610
Northeast Legal Aid | MA | MA-4 | 966,774
Legal Aid Bureau | MD | MD-1 | 4,464,249
Legal Aid Bureau | MD | MMD | 59,430
Pine Tree Legal Assistance | ME | ME-1 | 1,091,476
Pine Tree Legal Assistance | ME | MMX-1 | 306,179
Pine Tree Legal Assistance | ME | NME-1 | 70,798
Michigan Advocacy Program | MI | MI-12 | 1,776,673
Lakeshore Legal Aid | MI | MI-13 | 4,649,658
Legal Services of Eastern Michigan | MI | MI-14 | 1,692,105
Legal Aid of Western Michigan | MI | MI-15 | 2,005,462
Legal Services of Northern Michigan | MI | MI-9 | 842,093
Michigan Advocacy Program | MI | MMI | 383,032
Michigan Indian Legal Services | MI | NMI-1 | 180,817
Southern Minnesota Regional Legal Services | MN | MMN | 338,206
Legal Aid Service of Northeastern Minnesota | MN | MN-1 | 417,295
Legal Services of Northwest Minnesota Corporation | MN | MN-4 | 365,119
Southern Minnesota Regional Legal Services | MN | MN-5 | 1,557,850
Central Minnesota Legal Services | MN | MN-6 | 1,584,128
Anishinabe Legal Services | MN | NMN-1 | 262,500
Legal Aid of Western Missouri | MO | MMO | 234,187
Legal Aid of Western Missouri | MO | MO-3 | 1,951,476
Legal Services of Eastern Missouri | MO | MO-4 | 2,040,119
Mid-Missouri Legal Services Corporation | MO | MO-5 | 458,232
Legal Services of Southern Missouri | MO | MO-7 | 1,870,695
Micronesian Legal Services | MP | MP-1 | 1,480,894
Mississippi Center for Legal Services | MS | MS-10 | 2,805,976
North Mississippi Rural Legal Services | MS | MS-9 | 1,738,416
Mississippi Center for Legal Services | MS | NMS-1 | 91,306
Montana Legal Services Association | MT | MMT | 127,528
Montana Legal Services Association | MT | MT-1 | 924,993
Montana Legal Services Association | MT | NMT-1 | 174,897
Legal Aid of North Carolina | NC | MNC | 456,525
Legal Aid of North Carolina | NC | NC-5 | 11,663,345
Legal Aid of North Carolina | NC | NNC-1 | 239,724
Southern Minnesota Regional Legal Services | ND | MND | 143,470
Legal Services of North Dakota | ND | ND-3 | 476,634
Legal Services of North Dakota | ND | NND-3 | 295,883
Legal Aid of Nebraska | NE | MNE | 268,125
Legal Aid of Nebraska | NE | NE-4 | 1,386,831
Legal Aid of Nebraska | NE | NNE-1 | 36,308
Legal Advice & Referral Center | NH | NH-1 | 794,068
South Jersey Legal Services | NJ | MNJ | 84,074
Legal Services of Northwest Jersey | NJ | NJ-15 | 485,958
Central Jersey Legal Services | NJ | NJ-17 | 1,323,043
Northeast New Jersey Legal Services Corporation | NJ | NJ-18 | 1,968,667
South Jersey Legal Services | NJ | NJ-20 | 2,396,491
Essex-Newark Legal Services Project | NJ | NJ-8 | 1,012,586
New Mexico Legal Aid | NM | MNM | 115,571
DNA-Peoples Legal Services | NM | NM-1 | 245,882
New Mexico Legal Aid | NM | NM-5 | 2,947,923
DNA-Peoples Legal Services | NM | NNM-2 | 24,956
New Mexico Legal Aid | NM | NNM-4 | 510,366
Nevada Legal Services | NV | NNV-1 | 146,060
Nevada Legal Services | NV | NV-1 | 3,164,112
Legal Aid Society of Mid-New York | NY | MNY | 293,824
Legal Services of the Hudson Valley | NY | NY-20 | 1,857,194
Legal Aid Society of Northeastern New York | NY | NY-21 | 1,379,025
Legal Aid Society of Mid-New York | NY | NY-22 | 1,769,763
Legal Assistance of Western New York | NY | NY-23 | 1,870,445
Neighborhood Legal Services | NY | NY-24 | 1,410,404
Nassau/Suffolk Law Services Committee | NY | NY-7 | 1,462,676
Legal Services NYC | NY | NY-9 | 12,380,700
Legal Aid of Western Ohio | OH | MOH | 271,334
Legal Aid Society of Greater Cincinnati | OH | OH-18 | 1,750,741
Community Legal Aid Services | OH | OH-20 | 2,033,531
The Legal Aid Society of Cleveland | OH | OH-21 | 2,474,413
Legal Aid of Western Ohio | OH | OH-23 | 2,899,525
Ohio State Legal Services | OH | OH-24 | 3,609,525
Legal Aid Services of Oklahoma | OK | MOK | 167,151
Oklahoma Indian Legal Services | OK | NOK-1 | 899,369
Legal Aid Services of Oklahoma | OK | OK-3 | 4,807,067
Legal Aid Services of Oregon | OR | MOR | 535,226
Legal Aid Services of Oregon | OR | NOR-1 | 202,768
Legal Aid Services of Oregon | OR | OR-6 | 3,896,236
Philadelphia Legal Assistance Center | PA | MPA | 214,797
Philadelphia Legal Assistance Center | PA | PA-1 | 3,204,335
Southwestern Pennsylvania Legal Services | PA | PA-11 | 424,853
Legal Aid of Southeastern Pennsylvania | PA | PA-23 | 1,365,547
North Penn Legal Services | PA | PA-24 | 2,037,974
MidPenn Legal Services | PA | PA-25 | 2,644,519
Northwestern Legal Services | PA | PA-26 | 747,015
Laurel Legal Services | PA | PA-5 | 684,616
Neighborhood Legal Services Association | PA | PA-8 | 1,433,575
Puerto Rico Legal Services | PR | MPR | 64,688
Puerto Rico Legal Services | PR | PR-1 | 11,818,285
Community Law Office | PR | PR-2 | 215,933
Rhode Island Legal Services | RI | RI-1 | 967,489
South Carolina Legal Services | SC | MSC | 155,528
South Carolina Legal Services | SC | SC-8 | 6,038,140
Dakota Plains Legal Services | SD | NSD-1 | 1,025,591
East River Legal Services | SD | SD-2 | 430,728
Dakota Plains Legal Services | SD | SD-4 | 467,961
Legal Aid Society of Middle TN and the Cumberlands | TN | TN-10 | 3,125,749
Memphis Area Legal Services | TN | TN-4 | 1,550,924
West Tennessee Legal Services | TN | TN-7 | 714,802
Legal Aid of East Tennessee | TN | TN-9 | 2,523,870
Texas RioGrande Legal Aid | TX | MSX-2 | 1,943,157
Texas RioGrande Legal Aid | TX | NTX-1 | 34,378
Lone Star Legal Aid | TX | TX-13 | 12,034,312
Legal Aid of NorthWest Texas | TX | TX-14 | 9,145,325
Texas RioGrande Legal Aid | TX | TX-15 | 11,501,517
Utah Legal Services | UT | MUT | 92,972
Utah Legal Services | UT | NUT-1 | 90,366
Utah Legal Services | UT | UT-1 | 2,349,840
Central Virginia Legal Aid Society | VA | MVA | 187,615
Southwest Virginia Legal Aid Society | VA | VA-15 | 867,059
Legal Aid Society of Eastern Virginia | VA | VA-16 | 1,570,775
Virginia Legal Aid Society | VA | VA-17 | 808,012
Central Virginia Legal Aid Society | VA | VA-18 | 1,310,918
Blue Ridge Legal Services | VA | VA-19 | 861,283
Legal Services of Northern Virginia | VA | VA-20 | 1,597,692
Legal Services of the Virgin Islands | VI | VI-1 | 194,590
Legal Services Law Line of Vermont | VT | VT-1 | 521,364
Northwest Justice Project | WA | MWA | 707,725
Northwest Justice Project | WA | NWA-1 | 312,902
Northwest Justice Project | WA | WA-1 | 5,899,908
Legal Action of Wisconsin | WI | MWI | 400,274
Wisconsin Judicare | WI | NWI-1 | 170,387
Wisconsin Judicare | WI | WI-2 | 1,009,735
Legal Action of Wisconsin | WI | WI-5 | 3,858,281
Legal Aid of West Virginia | WV | WV-5 | 2,770,204
Legal Aid of Wyoming | WY | NWY-1 | 189,810
Legal Aid of Wyoming | WY | WY-4 | 527,640

These grants will be awarded under the authority conferred on LSC by section 1006(a)(1) of the Legal Services Corporation Act, 42 U.S.C. 2996e(a)(l). Awards will be made so that each service area is served, although no listed organization is guaranteed an award. Grants will become effective and grant funds will be distributed on or about January 1, 2019.

This notice is issued pursuant to 42 U.S.C. 2996f(f). Comments and recommendations concerning potential grantees are invited and should be delivered to LSC within 30 days from the date of publication of this notice.

Dated: October 22, 2018.
Stefanie Davis,
Assistant General Counsel.

[FR Doc. 2018-23406 Filed 10-25-18; 8:45 am]

BILLING CODE 7050-01-P